DEPARTMENT OF THE INTERIOR

Fish and Wildlife Service

[FWS-R1-ES-2008-N0288; 10120-1112-0000-F2]

Receipt of Application for an Enhancement of Survival Permit for the Northern Spotted Owl and the Marbled Murrelet

AGENCY: Fish and Wildlife Service, Interior.

ACTION: Notice of availability and receipt of application.

SUMMARY: Port Blakely Tree Farms (PBTF) has applied to the U.S. Fish and Wildlife Service (Service) for an enhancement of survival permit (Permit) pursuant to section 10(a)(1)(A) of the Endangered Species Act of 1973, as amended (Act). The permit application includes a draft Safe Harbor Agreement (SHA), draft Implementing Agreement (IA), and a draft Environmental Assessment (EA). The proposed term of the Permit and the Agreement is 60 years. The Permit would authorize PBTF to carry out habitat management measures that are likely to benefit the northern spotted owl (Strix occidentalis caurina) and the marbled murrelet (Brachyramphus marmoratus), both of which are federally listed as threatened, and would allow PBTF to return their properties to agreed upon baseline conditions at the end of the Permit term. The covered area is approximately 45,306 acres (18,335 hectares) and is located in eastern Lewis and Skamania counties, Washington. In accordance with Service responsibilities pursuant to the National Environmental Policy Act (NEPA), this notice also announces the availability for public review of a draft EA developed in conjunction with the proposed SHA. We request comments from the public on the permit application, draft SHA, draft IA, and the draft EA.

DATES: To be fully considered, written comments from interested parties must be received on or before January 16, 2009.

ADDRESSES: Written comments concerning this notice should be addressed to Mark Ostwald, U.S. Fish and Wildlife Service, Western Washington Fish and Wildlife Office, 510 Desmond Drive, SE., Suite 102, Lacey, WA 98503. You may also submit written comments by electronic mail to FW1WWO_SHAPBTF@FWS.GOV.

FOR FURTHER INFORMATION CONTACT: Mark Ostwald at (360) 753-9564.

SUPPLEMENTARY INFORMATION:

Availability of Documents

Copies of the PBTF permit application, draft SHA, draft IA, and the draft EA, and other relevant documents addressing the Service's proposed issuance of the subject permit may be viewed on the internet by accessing: http://www.fws.gov/westwafwo. You may also request copies of the documents by contacting the Service's Western Washington Fish and Wildlife Office [see FOR FURTHER INFORMATION CONTACT above]. The Service is furnishing this notice to provide the public, and other State and Federal agencies, with an opportunity to review and comment on the Service's proposed issuance of a permit to PBTF. All comments received will become part of the public record. Before including your address, phone number, e-mail address, or other personal identifying information in your comment, you should be aware that your entire comment—including your personal identifying information—may be made publicly available at any time. While you can ask us in your comment to withhold your personal information from public review, we cannot guarantee that we will be able to do so. All comments received from organizations, businesses, or individuals representing organizations or businesses are available for public inspection in their entirety.

Background

Under a SHA, participating landowners voluntarily undertake management activities on their property to enhance, restore, or maintain habitat benefiting species listed under the Act (16 U.S.C. 1531 et seq.). SHAs, and the subsequent enhancement of survival permits that are issued pursuant to section 10(a)(1)(A) of the Act, encourage private and other non-Federal property owners to implement conservation efforts for listed species by assuring the landowners that they will not be subjected to increased property use restrictions as a result of their efforts to attract listed species to their property, or to increase the numbers or distribution of listed species already on their property. Application requirements and issuance criteria for enhancement of survival permits through SHAs are found in 50 CFR 17.22. These permits allow for any necessary future incidental take of any covered species above the mutually agreed upon baseline conditions for those species in accordance with the terms of the permit and any accompanying IA. In addition to this Federal planning and permitting process, PBTF is concurrently applying to the Washington Department of Natural Resources for a Landowner Option Plan and a Cooperative Habitat Enhancement Agreement as allowed under Washington Administrative Code 222-16-100 and 222-16-105.

PBTF has submitted a draft SHA for the northern spotted owl and the marbled murrelet covering 45,306 acres (18,335 hectares) of managed forest lands within the western Cascades in Lewis and Skamania counties, Washington. The covered lands have been intensively managed and are not currently known to be occupied by either the spotted owl or the marbled murrelet. The environmental baseline will be measured in terms of dispersal habitat for spotted owls and potential nesting habitat for marbled murrelets.

Approximately 59 percent of the proposed SHA occurs within the Mineral Conservation Support Area (CSA) for spotted owls, as described in the Service's Recovery Plan for the Northern Spotted Owl (2008). The primary role of the Mineral CSA in this area is to provide dispersal support for spotted owls. Although the remaining 41 percent of SHA lands are not within the CSA, PBTF intends to manage all SHA lands for the purpose of providing dispersal habitat for spotted owls .

There are no known spotted owls nesting on Port Blakely lands. However, spotted owls have historically nested on adjacent Federal lands and the 1.8-mile (2.9-kilometer) radius circles around those sites that are used for evaluating potential habitat availability for spotted owls extend onto PBTF lands. Because of this, PBTF conducted habitat evaluations of their properties to determine the amount of suitable spotted owl habitat present. Habitat surveys determined that there is not any high quality habitat, as defined in the Service's Recovery Plan for the Northern Spotted Owl. Because 59 percent of PBTF lands fall within a CSA intended to provide for spotted owl dispersal, the baseline for the SHA is defined in terms of spotted owl dispersal habitat. The baseline estimate for the SHA is 8,360 acres (3,383 hectares) of spotted owl dispersal habitat, of which 4,083 acres (1,652 hectares) occurs within the CSA and 4,277 acres (1,731 hectares) occurs outside of the CSA on PBTF land.

The Service's Recovery Plan for the Marbled Murrelet (1997) divides the range of the marbled murrelet within the continental United States into six Conservation Zones. The zone delineations assist the Service in the design of management actions and evaluation of impacts to the species at different scales. Approximately 50 percent of the proposed SHA lands occur within Puget Sound Conservation Zone 1, which extends inland 50 miles from eastern Puget Sound . The PBTF lands covered under the proposed SHA do not contain large patches of old forest with which nesting marbled murrelets are most commonly associated. A previous landowner surveyed a portion of the areas proposed for coverage under the SHA for marbled murrelet occupancy from 1998 to 2003 and did not locate any occupied sites. The most relevant metric to describe marbled murrelet nesting habitat is the abundance of nesting platforms, however, PBTF does not have this information in their existing forest inventory. For that reason, PBTF opted to identify stands greater than 7 acres (3 hectares) in size and greater than 81 years old as potential marbled murrelet nesting habitat for purposes of establishing the SHA baseline for this species. Using this habitat definition, there are 498 acres (202 hectares) of potential nesting habitat for the marbled murrelet on covered lands under the proposed SHA.

PBTF has worked closely with the Service to develop their proposed SHA and the voluntary conservation measures that are expected to provide a net conservation benefit to the northern spotted owl and the marbled murrelet. The Service anticipates the SHA would result in benefits to these species by committing PBTF to: (1) An average harvest rotation of 60 years versus the industry standard of 45 years; (2) a wildlife tree and snag management program; (3) marking a sample of snags and defective trees to be used in studies for effectiveness of snag creation methods; (4) identification and long-term retention of special management areas; and, (5) identification and long-term retention of special set-aside areas to provide a greater amount of older forest habitat within the covered area than would occur under current forest practices rules. By not operating within these special set-aside areas for the term of the SHA, stands will mature to an age of 136 to 173 years and will have the potential to provide foraging and nesting areas for spotted owls and nesting areas for murrelets.

The snag management program, through both protection of existing snags and creation of snags, and the extended average rotation age of 60 years, are intended to improve spotted owl dispersal habitat by providing more habitat for prey species and, ultimately, dispersing spotted owls. These young forests are often deficient in snags that provide habitat for small mammals that are the owl's prey. It is anticipated that protecting existing snags, and creating snags in combination with the extended rotation age of 60 years, will improve spotted owl dispersal habitat in this CSA and outside of the CSA. Marbled murrelets are expected to receive benefits through the identification of Special Management Areas and Special Set Asides as these areas will be allowed to develop into more structurally diverse forest with an increased chance of containing suitable nesting platforms over the life of the Permit. Spotted owls will also benefit from improved habitat conditions in these areas.

While SHAs are often categorically excluded under NEPA, for this situation an EA was determined to best integrate Federal and State public review processes. As described above, PBTF is applying to the Washington Department of Natural Resources for a Landowner Option Plan and a Cooperative Habitat Enhancement Agreement for both the spotted owl and the marbled murrelet. The draft EA evaluates the potential impacts to the environment from the no-action alternative and the proposed SHA.

This notice is provided pursuant to section 10(c) of the Act and NEPA regulations (40 CFR 1506.6). The Service will evaluate the Permit application, associated documents, and comments submitted thereon to determine whether the draft EA, and the proposed SHA and Permit application meet the requirements of NEPA regulations and section 10(a) of the Act, respectively. If it is determined that the requirements are met, the SHA will be finalized and signed, and the Permit will be issued to the Applicant for incidental take of the covered species. The final NEPA and permit determinations will not be completed until after the end of the 30-day comment period, and will fully consider all public comments received during the comment period.

Dated: October 17, 2008.
David J. Wesley,
Deputy Regional Director, Region 1, U.S. Fish and Wildlife Service, Portland, Oregon.

[FR Doc. E8-29899 Filed 12-16-08; 8:45 am]

BILLING CODE 4310-55-P